DEPARTMENT OF THE INTERIOR

National Park Service

Notice of Inventory Completion: Alaska State Office, Bureau of Land Management, Anchorage, AK; and Museum of the Aleutians, Unalaska, AK

AGENCY: National Park Service, Interior.

ACTION: Notice.

Notice is here given in accordance with the Native American Graves Protection and Repatriation Act (NAGPRA), 25 U.S.C. 3003, of the completion of an inventory of human remains in the control of the U.S. Department of the Interior, Bureau of Land Management, Alaska State Office, Anchorage, AK, and in the possession of the Museum of the Aleutians, Unalaska, AK. The human remains were removed from Umnak Island, AK.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the Alaska State Office, Bureau of Land Management, Museum of the Aleutians, and Smithsonian Institution professional staff in consultation with representatives of the Native Village of Nikolski.

Between 1950 and the 1980s, human remains representing a minimum of 212 individuals were removed from various sites in the southwestern part of Umnak Island, located in the Fox Island group of the eastern Aleutian Islands, AK. These sites included the Chaluka site at the Native Village of Nikolski, Ogalodox site, Sandy Beach site, and other nearby smaller sites. The exact provenience for each individual can not be determined. All of the human remains were probably removed at the direction of the late Dr. William Laughlin from Umnak Island, as they were later found to be among his collections. No known individuals were identified. No associated funerary objects are present.

According to museum records, the 212 sets of human remains were probably first sent to the University of Wisconsin, but then removed by Dr. William Laughlin to the University of Connecticut at an unknown date. From there, they were shipped by Dr. Laughlin to the Museum of the Aleutians in 1998, where they are presently located.

During 1961-62, human remains representing a minimum of nine individuals were removed from the Chaluka site at the Native Village of Nikolski, on Umnak Island in the Fox Island group of the eastern Aleutian Islands, AK. The human remains were also probably removed at the direction of the late Dr. William Laughlin from Umnak Island, as they were later found to be among his collections. No known individuals were identified. No associated funerary objects are present.

The remains of the nine individuals were shipped to the University of Wisconsin for study by Dr. William Laughlin and remained there until after his death. In 2006, the human remains were sent to the Smithsonian Institution for inventory, where they are presently located.

Umnak Island has been inhabited for over 8,000 years by Aleut (Unangan) people. Based on geographical location, oral history, and archeological evidence, the human remains from this island are of Aleut (Unangan) origin. The Aleut (Unangan) are ancestors of inhabitants of the Native Village of Nikolski, the current and only Indian tribe and settlement on Umnak Island, AK.

Officials of the Bureau of Land Management have determined that, pursuant to 25 U.S.C. 3001 (9-10), the human remains described above represent the physical remains of a minimum of 221 individuals of Native American ancestry. Officials of the Bureau of Land Management have also determined that, pursuant to 25 U.S.C. 3001 (2), there is a relationship of shared group identity that can be reasonably traced between the Native American human remains and the Native Village of Nikolski.

Representatives of any other Indian tribe that believes itself to be culturally affiliated with the human remains should contact Dr. Robert E. King, Alaska State NAGPRA Coordinator, Bureau of Land Management, 222 W. 7th Avenue, #13, Anchorage, AK 99513-7599, telephone (907) 271-5510, before September 12, 2008. Repatriation of the human remains to the Native Village of Nikolski may proceed after that date if no additional claimants come forward.

The Bureau of Land Management is responsible for notifying the Chaluka Corporation and Native Village of Nikolski that this notice has been published.

Dated: July 8, 2008
Daniel Odess,
Assistant Associate Director, Park Cultural Resources.

[FR Doc. E8-18698 Filed 8-12-08; 8:45 am]

BILLING CODE 4312-50-S